DEPARTMENT OF THE INTERIOR

Fish and Wildlife Service

Receipt of an Application for an Incidental Take Permit for the Key Deer, Lower Keys Marsh Rabbit, and Eastern Indigo Snake Resulting from Limited Additional Development Activities on Big Pine Key and No Name Key, Monroe County, FL

AGENCY: Fish and Wildlife Service, Interior.

ACTION: Notice.

SUMMARY: The Florida Department of Transportation (FDOT), Monroe County, Florida, and the Florida Department of Community Affairs (DCA) (Applicants) request an incidental take permit (ITP) pursuant to section 10(a)(1)(B) of the Endangered Species Act of 1973 (U.S.C. 1531 et seq.), as amended (Act). The Applicants anticipate taking no more than 168 acres of occupied Key deer (Odocoileus virginianus clavium), breeding, foraging, and sheltering habitat. This same area is potential habitat for the eastern indigo snake (Drymarchon corais couperi). Proposed activities on this acreage may also indirectly affect adjacent habitat occupied by the Lower Keys marsh rabbit (Sylvilagus palustris hefneri). Take of these species would be incidental to development activities on Big Pine Key and No Name Key (Project Area) in Monroe County, Florida.

The Applicants' Habitat Conservation Plan (HCP) describes the mitigation and minimization measures proposed to address the effects of the Project on the affected species. These measures are outlined in the SUPPLEMENTARY INFORMATION section below. The Service announces the availability of the HCP and the Environmental Assessment for the incidental take application. Copies of the HCP and Environmental Assessment may be obtained by making a request to the Regional Office (see ADDRESSES). Requests must be in writing to be processed. This notice is provided pursuant to section 10 of the Endangered Species Act and National Environmental Policy Act (NEPA) regulations (40 CFR 1506.6).

DATES: Written comments on the ITP application and HCP should be sent to the Service's Regional Office (see ADDRESSES) and should be received on or before July 22, 2005.

ADDRESSES: Persons wishing to review the application, HCP, and EA may obtain copies by writing the Service's Southeast Regional Office, Atlanta, Georgia. Documents will also be available for public inspection by appointment during normal business hours at the Regional Office, 1875 Century Boulevard, Suite 200, Atlanta, Georgia 30345 (Attn: Endangered Species Permits), or Field Supervisor, South Florida Ecological Services Field Office, U.S. Fish and Wildlife Service, 1339 20th Street, Vero Beach, Florida, 32960-3559. Written data or comments concerning the application, supporting documentation, EA, or HCP should be submitted to the Regional Office. Requests for the documentation must be in writing to be processed. Comments must be submitted in writing to be adequately considered in the Service's decision-making process. Please reference permit number TE083411-0 in such comments, or in requests for the documents discussed herein.

FOR FURTHER INFORMATION CONTACT: Mr. David Dell, Regional HCP Coordinator, (see ADDRESSES above), telephone: 404/679-7313, facsimile: 404/679-7081; or Mr. George Dennis, Fish and Wildlife Ecologist, South Florida Ecological Services Office, Vero Beach, Florida (see ADDRESSES above), telephone: 772/562-3909, ext. 309.

SUPPLEMENTARY INFORMATION: If you wish to comment, you may submit comments by any one of several methods. Please reference permit number TE083411-0 in such comments. You may mail comments to the Service's Regional Office (see ADDRESSES). You may also comment via the internet to “david_dell@fws.gov”. Please submit comments over the internet as an ASCII file avoiding the use of special characters and any form of encryption. Please also include your name and return address in your internet message. If you do not receive a confirmation from the Service that we have received your internet message, contact us directly at either of the telephone numbers listed below (see FOR FURTHER INFORMATION CONTACT). Finally, you may hand deliver comments to either of the Service offices listed above (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

The Florida Key deer is the smallest race of North American white-tailed deer. Key deer are found only in the lower Florida Keys from Sugarloaf to Big Pine Key. More than two-thirds of the population is supported on Big Pine Key and No Name Key. The Key deer population was estimated to be 25 to 80 animals in 1955. It was federally listed as endangered in 1967 because of loss of habitat due to residential and commercial construction and high human-related mortality. The current Key deer population on Big Pine Key and No Name Key is 453 to 517 animals. Key deer utilize all local habitat types including pine rocklands, hardwood hammocks, buttonwood salt marshes, mangrove wetlands, freshwater wetlands, and disturbed and developed areas. Pine rocklands are especially important to Key deer conservation because they hold year-round freshwater.

The Lower Keys marsh rabbit is a subspecies of the marsh rabbit and occurs in many of the larger Lower Keys, including Sugarloaf, Saddlebunch, Boca Chica, and Big Pine Keys, as well as in the small islands near these keys. Lower Keys marsh rabbits inhabit saltmarsh and buttonwood transition areas, freshwater wetlands, and coastal beach berms. Suitable habitat for this species is highly fragmented across all of the Lower Keys. In the last few decades, development for residential, commercial, or military-related purposes has reduced the total area of Lower Keys marsh rabbit habitat in the Florida Keys. Habitat loss is the main cause of the marsh rabbit's endangered status. Currently, the Lower Keys marsh rabbit occurs in small, relatively disjunct populations and has a low population density because of predation by domestic cats. Although predation by domestic cats is the principal cause of mortality, some road mortality occurs as rabbits attempt to move among increasingly isolated Lower Keys marshes.

The eastern indigo snake is a large, non-poisonous snake that grows to a maximum length of eight feet. Historically, the species ranged throughout Florida, except in the Marquesas and Dry Tortugas. The indigo snake can occur in most types of hammock in Florida, often near wetlands. It is also known to occur in mangrove swamps, seepage swamp, flowing water swamp, pond swamp, wet prairie, xeric pinelands and scrub, flatwoods, dry glades, tropical hardwood hammocks, beach dune/coastal strand, pine rockland, and muckland fields in southern Florida. Gopher tortoise burrows, tree stumps, piles of debris, land crab burrows, and other subterranean cavities are commonly used as dens and for egg laying. The species has declined throughout its range and has been extirpated from some areas due to habitat fragmentation, decline in the gopher tortoise populations, and other factors. Indigo snakes have not been documented in the Project Area for several years, despite the presence of suitable habitat throughout Big Pine and No Name Keys.

There has been a building moratorium on Big Pine Key since 1995 due to direct and indirect impacts to the Key deer. The HCP describes a plan for limited development activities that is intended to satisfy safety, functional, and recreational needs of the community, while maintaining the long-term viability of Key deer and its habitat. Activities covered under this HCP include residential and commercial development, as well as transportation improvements to meet the community needs of the Project area. The proposed activities will result in harm to Key deer, incidental to the carrying out of these otherwise lawful activities. Habitat alteration associated with the proposed development activities will impact no more than 168 acres and reduce the availability of breeding, foraging, and sheltering habitat for Key deer. The Applicants propose to minimize take of Key deer by classifying all lands within the Project area and directing development activities to the lowest quality habitat. The impacts to Lower Keys rabbit and eastern indigo snake will be minimized by buffering occupied habitat from development and implementation of standard construction practices, respectively. Impacts to Key deer will be mitigated by acquiring lands for conservation within the Project area at a ratio of three to one based on habitat quality and area. These same conservation lands will also provide protection for the Lower Keys rabbit and eastern indigo snake.

The Service has made a preliminary determination that issuance of the ITP is not a major Federal action significantly affecting the quality of the human environment within the meaning of section 102(2)(C) of NEPA. This preliminary information may be revised due to public comment received in response to this notice and is based on information contained in the EA and HCP.

The Service will evaluate the HCP and comments submitted thereon to determine whether the application meets the issuance criteria requirements of section 10(a)(1)(B) of the Act. By conducting an intra-Service section 7 consultation, the Service will also evaluate whether issuance of the section 10(a)(1)(B) ITP would comply with section 7 of the Act. The results of this consultation, in combination with the above findings, will be used in the final analysis to determine whether or not to issue the ITP for the Key deer, Lower Keys marsh rabbit, and eastern indigo snake.

Dated: May 5, 2005.
Jacquelyn B. Parrish,
Acting Regional Director, Southeast Region.

[FR Doc. 05-10205 Filed 5-20-05; 8:45 am]

BILLING CODE 4310-55-P